DEPARTMENT OF HOUSING AND URBAN DEVELOPMENT

[Docket No. FR-6104-N-01]

Announcement of the Housing Counseling Federal Advisory Committee Notice of Public Meeting

AGENCY: Office of the Assistant Secretary for Housing—Federal Housing Commissioner, Department of Housing and Urban Development (HUD).

ACTION: Notice of Housing Counseling Federal Advisory Committee (HCFAC) Public Meeting.

SUMMARY: This gives notice of a Housing Counseling Federal Advisory Committee (HCFAC) meeting and sets forth the proposed agenda. The Committee meeting will be held on Tuesday, May 22, 2018. The meeting is open to the public and is accessible to individuals with disabilities. This notice is being published less than 15 days prior to the meeting date due to unforeseen administrative delays.

DATES: The meeting via teleconference will be held on May 22, 2018, starting at 11 a.m. Eastern Standard Time (ET) via conference phone.

FOR FURTHER INFORMATION CONTACT: Virginia F. Holman, Housing Specialist, Office of Housing Counseling, U.S. Department of Housing and Urban Development, 600 East Broad Street, Richmond, VA 23219; telephone number (804) 822-4911 (this is not a toll-free number). Persons who have difficulty hearing or speaking may access this number via TTY by calling the toll-free Federal Relay Service at (800) 877-8339 (toll-free number). Individuals may also email HCFACCommittee@hud.gov.

SUPPLEMENTARY INFORMATION: HUD is convening the meeting of the HCFAC on Tuesday May 22, 2018 from 11 a.m. to 2 p.m. ET. The meeting will be held and via conference phone. This meeting notice is provided in accordance with the Federal Advisory Committee Act, 5 U.S.C. App. 10(a)(2).

Draft Agenda—Housing Counseling Federal Advisory Committee Meeting—May 22, 2018

I. Welcome.

II. Advisory Committee—Review of recommendations.

III. OHC—Update on Committee Recommendations.

IV. Administrative Issues—Recognition of Retiring Members.

V. Public Comment.

VI. Adjourn.

Registration

The teleconference meeting is open to the public, with limited phone lines available, on a first-come, first-served basis. Advance registration is required to participate. To register to attend, please visit the following link: https://pavr.wufoo.com/forms/hcfac-meeting-registration-05222018/. After completing the pre-registration process at the above link, participants will receive a conference code via email.

Attendees can call-in to the meeting by using the following number in the United States: (888) 297-9852 (toll-free number). Participants are required to enter a conference code, which will be sent to all registered attendees via email.

An operator will ask callers to provide their names and their organizational affiliations (if applicable) prior to placing callers into the conference line to ensure they are part of the pre-registration list. Callers can expect to incur charges for calls they initiate over wireless lines and HUD will not refund any incurred charges. Callers will incur no charge for calls they initiate over land-line connections to the toll-free phone number. Persons with hearing impairments may also follow the discussion by first calling the Federal Relay Service (FRS): (800) 977-8339 (toll-free number) and providing the FRS operator with the conference call number: (888) 297-9852.

Comments

With advance registration, members of the public will have an opportunity to provide oral and written comments relative to agenda topics for the Committee's consideration. To provide oral comments, please be sure to indicate this on the registration link. The total amount of time for oral comments will be 15 minutes with each commenter limited to two minutes to ensure pertinent Committee business is completed. Written comments must be provided no later than May 15, 2018 at 5 p.m. ET to HCFACCommittee@hud.gov. Please note, written statements submitted will not be read during the meeting. The Committee will not respond to individual written or oral statements; but, it will take all public comments into account in its deliberations.

Meeting Records

Records and documents discussed during the meeting, as well as other information about the work of this Committee, will be available for public viewing as they become available at: http://www.facadatabase.gov/committee/committee.aspx?cid=2492&aid=77 by clicking on the “Committee Meetings” link. Information on the Committee is also available on HUD Exchange at https://www.hudexchange.info/programs/housing-counseling/federal-advisory-committee/.

Dated: May 4, 2018.
Dana Wade,
General Deputy Assistant, Secretary for Housing.

[FR Doc. 2018-09993 Filed 5-7-18; 4:15 pm]

BILLING CODE 4210-67-P